ENVIRONMENTAL PROTECTION AGENCY

40 CFR Part 52

[EPA-R05-OAR-2012-0366; FRL-9912-09-Region 5]

Approval and Promulgation of Air Quality Implementation Plans; Indiana; Particulate Matter Limitations for Coating Operations

AGENCY: Environmental Protection Agency (EPA).

ACTION: Final rule.

SUMMARY: The Environmental Protection Agency (EPA) is approving a revision to the Indiana State Implementation Plan (SIP) under the Clean Air Act (CAA). The particulate matter (PM) rules that were submitted consist of emission control requirements for coating operations along with exemptions from certain coating operations that produce minimal PM emissions. EPA is also taking no action on one section submitted by Indiana, as it pertains to a definition in an unapproved portion of Indiana's Title V regulations. Indiana submitted this request to approve PM rules on April 27, 2012. The proposed rule published in the Federal Register on April 16, 2014.

DATES: This final rule is effective on July 17, 2014.

ADDRESSES: EPA has established a docket for this action under Docket ID No. EPA-R05-OAR-2012-0366. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. What actions did EPA propose to take?

II. What comments did we receive on the proposed SIP revision?

III. What action is EPA taking?

IV. Statutory and Executive Order Reviews

I. What actions did EPA propose to take?

On April 16, 2014 (79 FR 21421), EPA proposed to approve revisions to PM rules submitted on April 27, 2012, into the Indiana SIP. These revisions add PM control requirements for coating operations. The other primary revisions provide PM limit exemptions for coating operations that produce minimal PM emissions. The remaining modifications are clerical revisions that increase the lucidity of the rules without altering the PM limits.

Article 6 of 326 IAC contains Indiana's PM rules. Article 6.5 of 326 IAC contains statewide PM emission limitations except for Lake County and Article 6.8 of 326 IAC provides the PM emission limits for Lake County sources.

Specifically, EPA proposed to approve 326 IAC 6-3-1(c), 326 IAC 6.5-1-1, 326 IAC 6.5-1-2, 326 IAC 6.5-1-5, 326 IAC 6.5-1-6, 326 IAC 6.8-1-1, 326 IAC 6.8-1-2, 326 IAC 6.8-1-5, and 326 IAC 6.8-1-6. EPA also proposed to take no action on 326 IAC 6-3-1(b). Detail on each section including EPA's analysis is found in section III of the proposed rule.

II. What comments did we receive on the proposed SIP revision?

EPA received no comments during the public comment period. EPA is proceeding with approving the sections and taking no action on a section as proposed on April 16, 2014 (79 FR 21421).

III. What action is EPA taking?

EPA is approving revisions to PM rules Indiana submitted on April 27, 2012. Specifically, EPA is approving 326 IAC 6-3-1(c), 326 IAC 6.5-1-1, 326 IAC 6.5-1-2, 326 IAC 6.5-1-5, 326 IAC 6.5-1-6, 326 IAC 6.8-1-1, 326 IAC 6.8-1-2, 326 IAC 6.8-1-5, and 326 IAC 6.8-1-6 into the Indiana SIP. EPA is taking no action on 326 IAC 6-3-1(b).

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 18, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: May 30, 2014.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.770 the table in paragraph (c) is amended by:

i. Revising the entries for “Article 6. Particulate Rules”.

ii. Revising the entries for “Article 6.5. Particulate Matter Limitations Except Lake County”.

iii. Revising the entries for “Rule 1. General Provisions” under the subheading entitled “Article 6.8. Particulate Matter Limitations for Lake County”.

The revised text reads as follows:

§ 52.770 Identification of plan.

* * * * *

(c) * * *

EPA-Approved Indiana Regulations
Indiana citation | Subject | Indiana effective date | EPA Approval date | Notes
* * * * * * *
Article 6. Particulate Rules
Rule 2. Particulate Emission Limitations for Sources of Indirect Heating
6-2-1 | Applicability | 10/21/1983 | 5/17/1985, 50 FR 20569
6-2-2 | Emission limitations for facilities specified in 326 IAC 6-2-1(b) | 10/21/1983 | 5/17/1985, 50 FR 20569
6-2-3 | Emission limitations for facilities specified in 326 IAC 6-2-1(c) | 10/21/1983 | 5/17/1985, 50 FR 20569
6-2-4 | Emission limitations for facilities specified in 326 IAC 6-2-1(d) | 10/21/1983 | 5/17/1985, 50 FR 20569
Rule 3. Particulate Emission Limitations for Manufacturing Processes
6-3-1 | Applicability | 6/12/2002 | 7/25/2005, 70 FR 42495 | Sec. 1.(a) and (b).
|  | 4/20/2012 | 6/17/2014, [INSERT PAGE NUMBER WHERE THE DOCUMENT BEGINS] | only Sec. 1. (c).
6-3-1.5 | Definitions | 6/12/2002 | 7/25/2005, 70 FR 42495
6-3-2 | Particulate emission limitations, work practices, and control technologies | 6/12/2002 | 7/25/2005, 70 FR 42495
Rule 4. Fugitive Dust Emissions
6-4-1 | Applicability of rule | 11/16/1973 | 10/28/1975, 40 FR 50032 | Approved as APC-20 Sec. 1. Definitions.
6-4-2 | Emission limitations | 11/16/1973 | 10/28/1975, 40 FR 50032 | Approved as APC-20 Sec. 2. Allowable Emissions.
6-4-3 | Multiple sources of fugitive dust | 11/16/1973 | 10/28/1975, 40 FR 50032 | Approved as APC-20 Sec. 3. Applicability.
6-4-4 | Motor vehicle fugitive dust sources | 11/16/1973 | 10/28/1975, 40 FR 50032 | Approved as APC-20 Sec. 4. Mobile Fugitive Dust Sources.
6-4-5 | Measurement processes | 11/16/1973 | 10/28/1975, 40 FR 50032 | Approved as APC-20 Sec. 5. Methods of Measurement.
6-4-6 | Exceptions | 11/16/1973 | 10/28/1975, 40 FR 50032 | Approved as APC-20 Sec. 6.
6-4-7 | Compliance date | 11/16/1973 | 10/28/1975, 40 FR 50032 | Approved as APC-20 Sec. 3(e).
Rule 7. Particulate Matter Emission Limitations for Southern Indiana Gas and Electric Company
6-7-1 | Southern Indiana Gas and Electric Company (SIGECO) | 8/30/2008 | 11/10/2009, 74 FR 57904
Article 6.5. Particulate Matter Limitations Except Lake County
Rule 1. General Provisions
6.5-1-1 | Applicability | 4/20/2012 | 6/17/2014, [INSERT PAGE NUMBER WHERE THE DOCUMENT BEGINS]
6.5-1-1.5 | Definitions | 9/9/2005 | 3/22/2006, 71 FR 14383
6.5-1-2 | Particulate emission limitations; modification by commissioner | 4/20/2012 | 6/17/2014, [INSERT PAGE NUMBER WHERE THE DOCUMENT BEGINS]
6.5-1-3 | Nonattainment area particulate limitations; compliance determination | 9/9/2005 | 3/22/2006, 71 FR 14383
6.5-1-4 | Compliance schedules | 9/9/2005 | 3/22/2006, 71 FR 14383
6.5-1-5 | Control strategies | 4/20/2012 | 6/17/2014, [INSERT PAGE NUMBER WHERE THE DOCUMENT BEGINS]
6.5-1-6 | State implementation plan revisions | 4/20/2012 | 6/17/2014, [INSERT PAGE NUMBER WHERE THE DOCUMENT BEGINS]
6.5-1-7 | Scope; affected counties | 9/9/2005 | 3/22/2006, 71 FR 14383
Rule 2. Clark County
6.5-2-1 | General provisions | 2/22/2008 | 4/30/2008, 73 FR 23356
6.5-2-4 | ESSROC Cement Corporation | 2/22/2008 | 4/30/2008, 73 FR 23356
6.5-2-8 | Kimball Office-Borden | 2/22/2008 | 4/30/2008, 73 FR 23356
6.5-2-9 | PQ Corporation | 2/22/2008 | 4/30/2008, 73 FR 23356
Rule 3. Dearborn County
6.5-3-1 | General provisions | 2/22/2008 | 4/30/2008, 73 FR 23356
6.5-3-2 | Anchor Glass Container Corporation | 2/22/2008 | 4/30/2008, 73 FR 23356
6.5-3-3 | Dearborn Ready Mix, LLC | 2/22/2008 | 4/30/2008, 73 FR 23356
6.5-3-4 | Indiana Michigan Power, Tanners Creek Plant | 2/22/2008 | 4/30/2008, 73 FR 23356
6.5-3-5 | Laughery Gravel | 2/22/2008 | 4/30/2008, 73 FR 23356
6.5-3-7 | Paul H. Rohe Company, Inc. | 2/22/2008 | 4/30/2008, 73 FR 23356
6.5-3-8 | Lawrenceburg Distillers Indiana, LLC | 2/22/2008 | 4/30/2008, 73 FR 23356
Rule 4. Dubois County
6.5-4-1 | General provisions | 2/22/2008 | 4/30/2008, 73 FR 23356
6.5-4-2 | Kimball Office—Jasper 15th Street | 2/22/2008 | 4/30/2008, 73 FR 23356
6.5-4-3 | Jasper Seating Co., Inc., Plant No. 3 | 2/22/2008 | 4/30/2008, 73 FR 23356
6.5-4-4 | DMI Furniture Plant No. 5 | 2/22/2008 | 4/30/2008, 73 FR 23356
6.5-4-5 | Dubois County Farm Bureau Co-op | 2/22/2008 | 4/30/2008, 73 FR 23356
6.5-4-6 | Forest Products No. 1 | 2/22/2008 | 4/30/2008, 73 FR 23356
6.5-4-9 | Indiana Desk Company | 2/22/2008 | 4/30/2008, 73 FR 23356
6.5-4-10 | Indiana Dimension, Indiana Furniture Industries | 2/22/2008 | 4/30/2008, 73 FR 23356
6.5-4-11 | Indiana Furniture Industries (Repealed) | 2/22/2008 | 4/30/2008, 73 FR 23356
6.5-4-15 | Jasper Chair Company, Inc. | 2/22/2008 | 4/30/2008, 73 FR 23356
6.5-4-16 | Jasper Desk Company, Incorporated | 2/22/2008 | 4/30/2008, 73 FR 23356
6.5-4-17 | Kimball Office—Jasper Cherry Street | 2/22/2008 | 4/30/2008, 73 FR 23356
6.5-4-18 | Jasper Municipal Electric Utility | 2/22/2008 | 4/30/2008, 73 FR 23356
6.5-4-19 | JOFCO Inc. Plants 1 and 2 | 2/22/2008 | 4/30/2008, 73 FR 23356
6.5-4-21 | Jasper Seating | 2/22/2008 | 4/30/2008, 73 FR 23356
6.5-4-24 | Styline Industries, Inc. Plant #8 | 2/22/2008 | 4/30/2008, 73 FR 23356
Rule 5. Howard County
6.5-5-1 | General provisions | 2/22/2008 | 4/30/2008, 73 FR 23356
6.5-5-2 | Chrysler, LLC—Kokomo Casting Plant and Kokomo Transmission Plant | 2/22/2008 | 4/30/2008, 73 FR 23356
6.5-5-5 | Delco Electronics Corporation | 2/22/2008 | 4/30/2008, 73 FR 23356
6.5-5-10 | Kokomo Grain Company | 2/22/2008 | 4/30/2008, 73 FR 23356
6.5-5-11 | E & B Paving, Inc. | 2/22/2008 | 4/30/2008, 73 FR 23356
6.5-5-16 | Martin Marietta Materials, Inc. | 2/22/2008 | 4/30/2008, 73 FR 23356
Rule 6. Marion County
6.5-6-1 | General provisions | 2/22/2008 | 4/30/2008, 73 FR 23356
6.5-6-2 | Allison Transmission | 2/22/2008 | 4/30/2008, 73 FR 23356
6.5-6-3 | Asphalt Materials, Inc. | 2/22/2008 | 4/30/2008, 73 FR 23356
6.5-6-5 | Bunge North America (East), Inc. | 2/22/2008 | 4/30/2008, 73 FR 23356
6.5-6-15 | Automotive Components Holdings, LLC—Indianapolis Plant | 2/22/2008 | 4/30/2008, 73 FR 23356
6.5-6-18 | Cargill, Inc. | 2/22/2008 | 4/30/2008, 73 FR 23356
6.5-6-22 | Indiana Veneers Corporation | 2/22/2008 | 4/30/2008, 73 FR 23356
6.5-6-23 | Citizens Thermal Energy C.C. Perry K | 2/22/2008 | 4/30/2008, 73 FR 23356
6.5-6-23.1 | Indianapolis Power and Light Company (IPL) Harding Street Station | 2/22/2008 | 4/30/2008, 73 FR 23356
6.5-6-25 | National Starch and Chemical Company | 2/22/2008 | 4/30/2008, 73 FR 23356
6.5-6-26 | International Truck and Engine Corporation & Indianapolis Casting Corporation | 2/22/2008 | 4/30/2008, 73 FR 23356
6.5-6-28 | Quemetco Inc. (RSR Corporation) | 2/22/2008 | 4/30/2008, 73 FR 23356
6.5-6-31 | Vertellus Agriculture & Nutrition Specialties LLC | 2/22/2008 | 4/30/2008, 73 FR 23356
6.5-6-33 | Rolls-Royce Corporation | 2/22/2008 | 4/30/2008, 73 FR 23356
6.5-6-34 | St. Vincent's Hospital and Health Care Service | 2/22/2008 | 4/30/2008, 73 FR 23356
6.5-6-35 | Belmont Waste Water Sludge Incinerator | 2/22/2008 | 4/30/2008, 73 FR 23356
Rule 7. St. Joseph County
6.5-7-1 | General provisions | 2/22/2008 | 4/30/2008, 73 FR 23356
6.5-7-6 | Bosch Braking Systems Corporation | 2/22/2008 | 4/30/2008, 73 FR 23356
6.5-7-10 | RACO-Hubbell Electric Products | 2/22/2008 | 4/30/2008, 73 FR 23356
6.5-7-11 | Reith Riley Construction Company, Inc. | 2/22/2008 | 4/30/2008, 73 FR 23356
6.5-7-13 | Holy Cross Services Corporation (Saint Mary's Campus) | 2/22/2008 | 4/30/2008, 73 FR 23356
6.5-7-14 | Accucast Technology, LLC | 2/22/2008 | 4/30/2008, 73 FR 23356
6.5-7-16 | University of Notre Dame du Lac | 2/22/2008 | 4/30/2008, 73 FR 23356
6.5-7-18 | Walsh & Kelly, Inc. | 2/22/2008 | 4/30/2008, 73 FR 23356
Rule 8. Vanderburgh County
6.5-8-1 | General provisions | 2/22/2008 | 4/30/2008, 73 FR 23356
6.5-8-11 | Nunn Milling Company, Inc. | 2/22/2008 | 4/30/2008, 73 FR 23356
6.5-8-12 | Land O' Lakes Purina Feed LLC | 2/22/2008 | 4/30/2008, 73 FR 23356
6.5-8-13 | Southern Indiana Gas and Electric Company, Broadway Avenue Generating Station | 2/22/2008 | 4/30/2008, 73 FR 23356
6.5-8-14 | Whirlpool Corporation Highway 41 North | 2/22/2008 | 4/30/2008, 73 FR 23356
Rule 9. Vigo County
6.5-9-1 | General provisions | 2/22/2008 | 4/30/2008, 73 FR 23356
6.5-9-8 | International Paper Company | 2/22/2008 | 4/30/2008, 73 FR 23356
6.5-9-10 | S&G Excavating, Inc. | 2/22/2008 | 4/30/2008, 73 FR 23356
6.5-9-11 | Duke Energy Indiana, Inc.—Wabash River Generating Station | 2/22/2008 | 4/30/2008, 73 FR 23356
6.5-9-13 | Sisters of Providence | 2/22/2008 | 4/30/2008, 73 FR 23356
6.5-9-15 | Terre Haute Grain | 2/22/2008 | 4/30/2008, 73 FR 23356
6.5-9-17 | Ulrich Chemical, Inc. | 2/22/2008 | 4/30/2008, 73 FR 23356
Rule 10. Wayne County
6.5-10-1 | General provisions | 2/22/2008 | 4/30/2008, 73 FR 23356
6.5-10-2 | Barrett Paving Materials, Inc. | 2/22/2008 | 4/30/2008, 73 FR 23356
6.5-10-3 | Belden Wire and Cable Company | 2/22/2008 | 4/30/2008, 73 FR 23356
6.5-10-5 | Milestone Contractors LP (Cambridge City) | 2/22/2008 | 4/30/2008, 73 FR 23356
6.5-10-6 | Autocar LLC | 2/22/2008 | 4/30/2008, 73 FR 23356
6.5-10-9 | Earlham College | 2/22/2008 | 4/30/2008, 73 FR 23356
6.5-10-11 | Johns Manville International, Inc. | 2/22/2008 | 4/30/2008, 73 FR 23356
6.5-10-12 | Joseph H. Hill Co. | 2/22/2008 | 4/30/2008, 73 FR 23356
6.5-10-13 | Land O' Lakes Purina Feed LLC | 2/22/2008 | 4/30/2008, 73 FR 23356
6.5-10-14 | Milestone Contractors Richmond | 2/22/2008 | 4/30/2008, 73 FR 23356
6.5-10-15 | Richmond Power & Light—Whitewater Valley Generating Station | 2/22/2008 | 4/30/2008, 73 FR 23356
6.5-10-16 | Richmond State Hospital | 2/22/2008 | 4/30/2008, 73 FR 23356
Article 6.8. Particulate Matter Limitations for Lake County
Rule 1. General Provisions
6.8-1-1 | Applicability | 4/20/2012 | 6/17/2014, [INSERT PAGE NUMBER WHERE THE DOCUMENT BEGINS]
6.8-1-1.5 | Definitions | 9/9/2005 | 3/22/2006, 71 FR 14383
6.8-1-2 | Particulate emission limitations; modification by commissioner | 4/20/2012 | 6/17/2014, [INSERT PAGE NUMBER WHERE THE DOCUMENT BEGINS]
6.8-1-3 | Compliance determination | 9/9/2005 | 3/22/2006, 71 FR 14383
6.8-1-4 | Compliance schedules | 9/9/2005 | 3/22/2006, 71 FR 14383
6.8-1-5 | Control strategies | 4/20/2012 | 6/17/2014, [INSERT PAGE NUMBER WHERE THE DOCUMENT BEGINS]
6.8-1-6 | State implementation plan revisions | 4/20/2012 | 6/17/2014, [INSERT PAGE NUMBER WHERE THE DOCUMENT BEGINS]
6.8-1-7 | Scope | 2/22/2008 | 4/30/2008, 73 FR 23356
* * * * * * *

* * * * *

[FR Doc. 2014-14119 Filed 6-16-14; 8:45 am]

BILLING CODE 6560-50-P